NUCLEAR REGULATORY COMMISSION

[Docket Nos. 50-272 and 50-311]

PSEG Nuclear, LLC; Exelon Generation Company, LLC; Salem Nuclear Generating Station, Unit Nos. 1 and 2; Notice of Partial Withdrawal of Application for Amendment to Facility Operating License

The U.S. Nuclear Regulatory Commission (NRC or the Commission) has granted the request of PSEG Nuclear LLC (PSEG), on behalf or PSEG and Exelon Generation Company, LLC (the licensees) to withdraw a portion of its April 15, 2004, application and the August 11, 2004, and August 11, 2005, supplements for proposed amendments to Facility Operating License Nos. DPR-70 and DPR-75 for the Salem Nuclear Generating Station, Unit Nos. 1 and 2, located in Salem County, New Jersey.

One of the proposed changes would have permitted a modification to the Salem, Unit No. 1, containment cooling system. Specifically, PSEG proposed to install a new closed-loop chilled water system to supply cooling water to the containment fan cooling units during normal operation. The emergency containment cooling water system would remain the safety-related source of cooling water for postulated accidents. The request involved changes to the system configuration, revisions to the analysis of containment temperature and pressure following a design-basis event, and associated changes to the Technical Specifications. The Commission had previously issued a Notice of Consideration of Issuance of Amendment published in the Federal Register on October 12, 2004 (69 FR 60684). However, by letter dated August 11, 2005, PSEG withdrew the above-referenced proposed change.

For further details with respect to this action, see the application for amendment dated April 15, 2004, as supplemented by letters dated August 11, 2004, and August 11, 2005. Documents may be examined, and/or copied for a fee, at the NRC's Public Document Room (PDR), located at One White Flint North, Public File Area 01 F21, 11555 Rockville Pike (first floor), Rockville, Maryland. Publicly-available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR reference staff by telephone at 1-800-397-4209, or 301-415-4737, or by e-mail to pdr@nrc.gov.

Dated at Rockville, Maryland, this 30th day of September 2005.
For the Nuclear Regulatory Commission.
Stewart N. Bailey,
Sr. Project Manager, Section 2, Project Directorate I, Division of Licensing Project Management, Office of Nuclear Reactor Regulation.

[FR Doc. E5-5473 Filed 10-5-05; 8:45 am]

BILLING CODE 7590-01-P